NUCLEAR REGULATORY COMMISSION

[Docket No. 50-461; NRC-2019-0123]

Exelon Generation Company, LLC; Clinton Power Station, Unit No. 1

AGENCY: Nuclear Regulatory Commission.

ACTION: Environmental assessment and finding of no significant impact; issuance.

SUMMARY: The U.S. Nuclear Regulatory Commission (NRC) is considering the issuance of an amendment to Facility Operating License No. NPF-62, issued to Exelon Generation Company, LLC (the licensee), for operation of the Clinton Power Station, Unit No 1 (CPS), located in DeWitt County, Illinois. The proposed action would amend the expiration of Facility Operating License No. NPF-62 from September 29, 2026, to April 17, 2027. From September 29, 1986, to April 17, 1987, CPS was limited to 5 percent of rated power while operators conducted low-power testing before being issued a full-power operating license on April 17, 1987. The action to amend the expiration date of the license from September 29, 2026, to April 17, 2027, would result in the license expiring 40 years from the date of the issuance of the full-power operating license, as is permitted by the NRC's regulations.

DATES: The environmental assessment (EA) and finding of no significant impact (FONSI) referenced in this document is available on May 21, 2019.

ADDRESSES: Please refer to Docket ID NRC-2019-0123 when contacting the NRC about the availability of information regarding this document. You may obtain publicly-available information related to this document using any of the following methods:

• Federal Rulemaking Website: Go to http://www.regulations.gov and search for Docket ID NRC-2019-0123. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Joel S. Wiebe, Office of Nuclear Reactor Regulation, U.S. Nuclear Regulatory Commission, Washington, DC 20555-0001; telephone: 301-415-6606; email: Joel.Wiebe@nrc.gov.

SUPPLEMENTARY INFORMATION:

I. Introduction

The NRC is considering the issuance of an amendment to Facility Operating License No. NPF-62, issued to Exelon Generation Company, LLC (the licensee), for operation of the Clinton Power Station, Unit No. 1 (CPS), located in DeWitt County, Illinois. The licensee requested the amendment by letter dated September 17, 2018 (ADAMS Accession No. ML18260A307). If approved, the amendment would revise the expiration date of the license such that it would expire 40 years from the date of the issuance of the full-power operating license, as is permitted by title 10 of the Code of Federal Regulations (10 CFR) 50.51. In accordance with 10 CFR 51.21, the NRC prepared the following EA that analyzes the environmental impacts of the proposed licensing action. Based on the results of this EA, and in accordance with 10 CFR 51.31(a), the NRC has determined not to prepare an environmental impact statement for the proposed licensing action and is issuing a FONSI.

II. Environmental Assessment

Description of the Proposed Action

The proposed action would revise the expiration date of the license such that it would expire 40 years from the date of the issuance of the full-power operating license, as is permitted by 10 CFR 50.51. Specifically, the proposed action would revise the expiration date of the Facility Operating License No. NPF-62 from September 29, 2026, to April 17, 2027, which is 40 years from the issuance of the full-power operating license on April 17, 1987.

The proposed action is also described in the licensee's application dated September 17, 2018.

Need for the Proposed Action

On September 29, 1986, the NRC issued a low-power testing license (No. NPF-55) that authorized the licensee to operate CPS at up to 5 percent of rated power. On April 17, 1987, the NRC issued a full-power operating license (No. NPF-62) that authorized the licensee to operate CPS at up to 100 percent of rated power, with an expiration date 40 years from the date of the issuance of the low-power license.

The proposed action would allow the licensee to recapture the approximately 6.5 month period of low-power operation and extend the license expiration date to April 17, 2027. This action is consistent with NRC policy established in the Staff Requirements Memorandum (SRM) for SECY-98-296, “Staff Requirements—SECY-98-296—Agency Policy Regarding Licensee Recapture of Low-Power Testing or Shutdown Time for Nuclear Power Plants,” dated March 30, 1999 (available at www.nrc.gov/reading-rm/doc-collections/commission/srm/1998/1998-296srm.pdf). SECY-98-296, “Agency Policy Regarding Licensee Recapture of Low-Power Testing or Shutdown Time for Nuclear Power Plants,” dated December 21, 1998, is available at www.nrc.gov/reading-rm/doc-collections/commission/secys/1998/secy1998-296/1998-296scy.pdf.

Environmental Impacts of the Proposed Action

The proposed action would amend the CPS license such that it would expire 40 years from the date of the issuance of the facility's full-power operating license.

NUREG-0854, “Final Environmental Statement Related to the Operation of Clinton Power Station, Unit No.1,” dated May 1982 (ADAMS Accession No. ML19079A225), concluded that CPS will most likely operate with only minimal environmental impact. The proposed action would not affect the design or operation of the plant, and would not involve any modifications to the plant or any increase in the licensed power for the plant. Similarly, the proposed action would not significantly increase the probability or consequences of accidents or change the types of effluents released offsite. Because the proposed approximately 6.5 month extension of operation represents only a small fraction of the 40 year operating life considered in NUREG-0854, there would be no significant increase in the amount of any effluent released or waste generated, and no significant increase in occupational or public radiation exposure. The nominal additional quantities of effluents and waste generated during the proposed approximately 6.5 month period of extension would be in accordance with current operating requirements and regulatory limits. Therefore, the NRC concludes that there would be no significant radiological or nonradiological environmental impacts associated with the proposed action.

Environmental Impacts of the Alternatives to the Proposed Action

As an alternative to the proposed action, the NRC considered denial of the license amendment request (i.e., the “no-action” alternative). Denial of the license amendment request would result in no change in current environmental impacts. Accordingly, the environmental impacts of the proposed action and the no-action alternative would be similar.

Alternative Use of Resources

There are no unresolved conflicts concerning alternative uses of available resources under the proposed action.

Agencies or Persons Consulted

No additional agencies or persons were consulted regarding the environmental impact of the proposed action. However, in accordance with 10 CFR 50.91, the licensee provided copies of its application to the State of Illinois, and the NRC staff will consult with this State prior to issuance of the amendment.

III. Finding of No Significant Impact

The licensee has requested an amendment to revise the expiration date of the CPS license such that it would expire 40 years from the date of the issuance of the full-power operating license, as is permitted by 10 CFR 50.51. Specifically, the proposed action would revise the expiration date of Facility Operating License No. NPF-62 from September 29, 2026, to April 17, 2027, which is 40 years from the issuance of the full-power operating license on April 17, 1987.

The proposed action is in accordance with the licensee's application dated September 17, 2018.

The NRC is considering issuing the requested amendment. The proposed action would not significantly affect plant safety, would not have a significant adverse effect on the probability of an accident occurring, and would not have any significant radiological or nonradiological impacts. The reason the human environment would not be significantly affected is that the proposed action would not involve any construction or modification of the facility. Consistent with 10 CFR 51.21, the NRC conducted the EA for the proposed action, and this FONSI incorporates by reference the EA in Section II of this notice. Therefore, the NRC concludes that the proposed action will not have a significant effect on the quality of the human environment. Accordingly, the NRC has determined not to prepare an environmental impact statement for the proposed action.

As required by 10 CFR 51.32(a)(5), the related environmental document which provides the latest description of environmental conditions at CPS is NUREG-0854.

This FONSI and other related environmental documents may be examined, and/or copied for a fee, at the NRC's Public Document Room (PDR), located at One White Flint North, 11555 Rockville Pike, Rockville, Maryland 20852. Publicly-available records are also accessible electronically from the ADAMS Public Electronic Reading Room on the internet at the NRC's website: http://www.nrc.gov/reading-rm/adams.html.

Persons who do not have access to ADAMS or who encounter problems in accessing the documents located in ADAMS should contact the NRC's PDR reference staff by telephone at 1-800-397-4209 or 301-415-4737, or by email to pdr.resource@nrc.gov.

Dated at Rockville, Maryland, this 16th day of May 2019.
For the Nuclear Regulatory Commission.
Joel S. Wiebe,
Senior Project Manager, Plant Licensing Branch III, Division of Operating Reactor Licensing, Office of Nuclear Reactor Regulation.

[FR Doc. 2019-10549 Filed 5-20-19; 8:45 am]

BILLING CODE 7590-01-P